DEPARTMENT OF ENERGY

Federal Energy Regulatory Commission

Notice of Transfer of License and Soliciting Comments, Motions To Intervene, and Protests

March 27, 2001.

Take notice that the following hydroelectric application has been filed with the Commission and is available for public inspection:

a. Application Type: Transfer of License.

b. Project No.: 2233-038.

c. Date Filed: January 9, 2001, supplement filed March 19, 2001.

d. Applicants: Smurfit Newsprint Corporation, Portland General Electric Company, and Blue Heron Paper Company.

e. Name and Location of Project: The Willamette Falls Hydroelectric Project is located on the Willamette River in Clackamas County, Oregon. The project does not occupy federal or tribal land.

f. Filed Pursuant to: Federal Power Act, 16 U.S.C. 791(a)-825(r).

g. Applicant Contacts: Mr. Craig A. Hunt, Smurfit Newsprint Corporation, 150 N. Michigan Avenue, Chicago, IL 60601; Ms. Julie A. Keil, Portland General Electric Company, 121 SW Salmon Street, Portland, OR 97204, (503) 464-7717; and Mr. Mike Siebers, Blue Heron Paper Company, 419 Main Street, Oregon City, OR 97045, (503) 650-4239.

h. FERC Contact: Any questions on this notice should be addressed to James Hunter at (202) 219-2839.

i. Deadline for filing comments and or motions: May 3, 2001.

All documents (original and eight copies) should be filed with: David P. Boergers, Secretary, Federal Energy Regulatory Commission, 888 First Street, NW, Washington, DC 20426. Comments, motions to intervene, and protests may be filed electronically via the internet in lieu of paper. See, 18 CFR 385.2001(a)(1)(iii) and the instructions on the Commission's web site at http://www.ferc.fed,us/efi/doorbell.htm.

Please include the project number (P-2233-038) on any comments or motions filed.

j. Description of Proposal: The applicants request after-the-fact approval of a partial transfer of the license for Project No. 2233, to substitute Blue Heron Paper Company for Smurfit Newsprint Corporation as a co-licensee. The applicants state that Blue Heron Paper Company resulted from a management-led buyout of the assets of Smurfit Newsprint Corporation and that the buyout effected no change in the personnel responsible for operation of the project under the license

The transfer application was filed within five years of the expiration of the license for the project. In Hydroelectric Relicensing Regulations Under the Federal Power Act (54 FR 23,756; FERC Stats. and Regs., Regs. Preambles 1986-1990 30,854 at p. 31,437), the Commission declined to forbid all license transfers during the last five years of an existing license, and instead indicated that it would scrutinize all such transfer requests to determine if the transfer's primary purpose was to give the transferee an advantage in relicensing (id. at p. 31,438 n. 318).

k. Locations of the application: A copy of the application is available for inspection and reproduction at the Commission's Public Reference Room, located at 888 First Street, NE, Room 2A, Washington, DC 20426, or by calling (202) 208-1371. The application may be viewed on the web at www.ferc.fed.us/online/rims.htm (Call (202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-7974 Filed 3-30-01; 8:45 am]

BILLING CODE 6717-01-M